DEPARTMENT OF DEFENSE

Military Cancer Institute

Sunshine Act; Meeting Notice

Agency Holding the Meeting: United States Military Cancer Institute.

Time and Date: 8:30 a.m. to 3 p.m., November 12, 2003.

Place: Eisenhower Suite, WRAMC, 6900 Georgia Ave, NW., Washington DC 20307.

Status: Open—under “Government in the Sunshine Act” (5 U.S.C. 552b(e)(3)).

Matters to be Considered: USMCI goals and objectives.

8:30 a.m. Meeting—Committee of Scientific Advisors

(1) Welcome

(2) Introduction

(3) Overview of Various Oncology Programs

(4) Committee and Director Executive Session

FOR FURTHER INFORMATION CONTACT: Mr. William Mahr, Associate Director for Administration—USMCI, (202) 782-0552.

Dated: September 5, 2003.
Patricia L. Toppings,
Alternate OSD Federal Register Liaison Officer, Department of Defense.

[FR Doc. 03-23094 Filed 9-5-03; 3:19 pm]

BILLING CODE 5001-08-M